DEPARTMENT OF TRANSPORTATION

Federal Aviation Administration

14 CFR Part 71

[Docket No. FAA-2010-1179; Airspace Docket No. 10-ANM-9]

RIN 2120-AA66

Establishment of Area Navigation (RNAV) Routes; Western United States

AGENCY: Federal Aviation Administration (FAA), DOT.

ACTION: Final rule.

SUMMARY: This action establishes six High Altitude Area Navigation (RNAV) routes in the Western United States (U.S.). These new routes provide pilots and air traffic controllers with efficient direct routes enhancing safety and improving the efficient use of the National Airspace System (NAS).

DATES: Effective date 0901 UTC, May 5, 2011. The Director of the Federal Register approves this incorporation by reference action under 1 CFR part 51, subject to the annual revision of FAA Order 7400.9 and publication of conforming amendments.

FOR FURTHER INFORMATION CONTACT: Ken McElroy, Airspace Regulation and ATC Procedures Group, Office of Mission Support Services, Federal Aviation Administration, 800 Independence Avenue, SW., Washington, DC 20591; telephone: (202) 267-8783.

SUPPLEMENTARY INFORMATION:

History

On December 9, 2010, the FAA published in the Federal Register a notice of proposed rulemaking (NPRM) to establish RNAV routes in the Western U.S. (75 FR 76652). Interested parties were invited to participate in this rulemaking effort by submitting written comments on the proposal. No comments were received in response to the NPRM.

The Rule

This action amends Title 14 Code of Federal Regulations (14 CFR) part 71 by establishing six RNAV Q-routes in the Western United States. The RNAV routes described in this action will enhance safety, and facilitate more flexible and efficient use of the navigable airspace for en route Instrument Flight Rules (IFR) operations within the NAS. Specifically, these routes will improve arrival flow from the Denver, CO, Terminal area to the San Francisco/Oakland, CA, Terminal area and improve arrival flow from and through Salt Lake ARTCC to the San Francisco/Oakland, CA, Terminal area.

High Altitude RNAV Routes are published in paragraph 2006 in FAA Order 7400.9U, Airspace Designations and Reporting Points, dated August 18, 2010, and effective September 15, 2010, which is incorporated by reference in 14 CFR 71.1. The airspace designations listed in this document would be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it establishes RNAV routes in the Western United States.

Environmental Review

The FAA has determined that this action qualifies for categorical exclusion under the National Environmental Policy Act in accordance with FAA Order 1050.1E, Environmental Impacts: Polices and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9U, Airspace Designations and Reporting Points, dated August 18, 2010, and effective September 15, 2010, is amended as follows:

Paragraph 2006 United States area navigation routes.

* * * * *

Q-134 DUGLE to VOAXA [New]
DUGLE | FIX | (Lat. 37°51′54″ N., long. 120°40′04″ W.)
TATOO | WP | (Lat. 38°19′42″ N., long. 117°16′50″ W.)
JULIK | FIX | (Lat. 39°09′11″ N., long. 112°31′33″ W.)
HERSH | WP | (Lat. 39°30′46″ N., long. 109°59′07″ W.)
VOAXA | FI | (Lat. 39°47′18″ N., long. 106°31′58″ W.)
* * * * * * *
Q-136 OAL to VOAXA [New]
OAL | VORTAC | (Lat. 38°00′12″ N., long. 117°46′14″ W.)
RUMPS | WP | (Lat. 38°07′10″ N., long. 117°16′15″ W.)
KATTS | WP | (Lat. 38°20′00″ N., long. 116°20′00″ W.)
WEEMN | WP | (Lat. 39°21′57″ N., long. 109°58′03″ W.)
VOAXA | FIX | (Lat. 39°47′18″ N., long. 106°31′58″ W.)
* * * * * * *
Q-138 ILA to ABR [New]
ILA | VORTAC | (Lat. 39°04′16″ N., long. 122°01′38″ W.)
FIMUV | WP | (Lat. 39°49′05″ N., long. 120°11′17″ W.)
JENSA | WP | (Lat. 40°11′36″ N., long. 119°13′27″ W.)
PUHGI | WP | (Lat. 40°47′38″ N., long. 117°45′32″ W.)
ROOHZ | WP | (Lat. 41°14′12″ N., long. 116°12′58″ W.)
PARZZ | WP | (Lat. 41°36′15″ N., long. 115°02′10″ W.)
UROCO | WP | (Lat. 42°51′52″ N., long. 110°50′25″ W.)
RICCO | WP | (Lat. 43°48′29″ N., long. 107°02′30″ W.)
MOTLY | WP | (Lat. 44°45′50″ N., long. 102°25′43″ W.)
ABR | VOR/DME | (Lat. 45°25′02″ N., long. 098°22′07″ W.)
* * * * * * *
Q-121 PARZZ to TOUGH [New]
PARZZ | WP | (Lat. 41°36′15″ N., long. 115°02′10″ W.)
PIH | VORTAC | (Lat. 42°52′13″ N., long. 112°39′08″ W.)
TOUGH | WP | (Lat. 46°13′58″ N., long. 105°12′52″ W.)
* * * * * * *
Q-123 PARZZ to COKEE [New]
PARZZ | WP | (Lat. 41°36′15″ N., long. 115°02′10″ W.)
COKEE | WP | (Lat. 47°22′25″ N., long. 106°51′49″ W.)
* * * * * * *
Q-125 PARZZ to WLLES [New]
PARZZ | WP | (Lat. 41°36′15″ N., long. 115°02′10″ W.)
WLLES | WP | (Lat. 48°57′33″ N., long. 110°08′18″ W.)

Issued in Washington, DC, on March 1, 2011.
Rodger A. Dean,
Acting Manager, Airspace, Regulations and ATC Procedures Group.

[FR Doc. 2011-5077 Filed 3-9-11; 8:45 am]

BILLING CODE 4910-13-P